DEPARTMENT OF COMMERCE

International Trade Administration

Notice of Solicitation of Applications for Allocation of Tariff Rate Quotas on the Imports of Certain Cotton Shirting Fabric to Persons Who Cut and Sew Men's and Boys' Cotton Shirts in the United States

AGENCY: Department of Commerce, International Trade Administration.

ACTION: The Department of Commerce (“Department”) is soliciting applications for an allocation of the 2009 tariff rate quotas on certain cotton woven fabric to persons who cut and sew men's and boys' cotton shirts in the United States.

SUMMARY: The Department hereby solicits applications from persons (including firms, corporations, or other legal entities) who cut and sew men's and boys' cotton shirts in the United States for an allocation of the 2009 tariff rate quotas on certain cotton woven fabric. Interested persons must submit an application on the form provided to the address listed below by October 27, 2008. The Department will cause to be published in the Federal Register its determination to allocate the 2009 tariff rate quotas, will notify applicants of their respective allocation, and will issue licenses to eligible applicants within 60 days of that date.

DATES: To be considered, applications must be received or postmarked by 5 p.m. on October 27, 2008.

ADDRESSES: Applications must be submitted to the Office of Textiles and Apparel, Room 3100, United States Department of Commerce, 1401 Constitution Ave. NW, Washington, DC 20230 (telephone: (202) 482-3400). Application forms may be obtained from that office (via facsimile or mail) or from the following Internet address: http://web.ita.doc.gov/tacgi/cottontrq.nsf/TRQApp.

FOR FURTHER INFORMATION CONTACT: Laurie Mease, Office of Textiles and Apparel, U.S. Department of Commerce, (202) 482-3400.

SUPPLEMENTARY INFORMATION:

Background

On December 9, 2006, President Bush signed into law the Tax Relief and Health Care Act of 2006 (HR 6406/HR 6111) (“the Act”). Section 406(b)(1) of the Act requires the Secretary of Commerce to fairly allocate tariff rate quotas on the import of certain cotton woven fabrics through December 31, 2009. Section 406 (b)(1) authorizes the Secretary of Commerce to issue licenses to eligible manufacturers under headings 9902.52.08 through 9902.52.19 of the Harmonized Tariff Schedule of the United States, specifying the restrictions under each such license on the quantity of cotton woven fabrics that may be entered each year on behalf of the manufacturer. The Act created an annual tariff rate quota providing for temporary reductions through December 31, 2009 in the import duties of cotton woven fabrics suitable for making cotton shirts (new Harmonized Tariff Schedule of the United States (“HTS”) headings 9902.52.08, 9902.52.09, 9902.52.10, 9902.52.11, 9902.52.12, 9902.52.13, 9902.52.14, 9902.52.15, 9902.52.16, 9902.52.17, 9902.52.18, and 9902.52.19). The reduction in duty is limited to 85 percent of the total square meter equivalents of all imported woven fabrics of cotton containing 85 percent or more by weight cotton used by manufacturers in cutting and sewing men's and boys' cotton shirts in the United States and purchased by such manufacturer during calendar year 2000.

The Act requires that the tariff rate quotas be allocated to persons (including firms, corporations, or other legal entities) who, during calendar year 2000, were manufacturers cutting and sewing men's and boys' cotton shirts in the United States from imported woven fabrics of cotton containing 85 percent or more by weight cotton of the kind described in HTS 9902.52.08 through 9902.52.19 purchased by such manufacturer during calendar year 2000. On July 10, 2008, the Department published a final rule establishing procedures for allocating the tariff rate quota. See Imports of Certain Cotton Shirting Fabric: Implementation of Tariff Rate Quota Established Under the Tax Relief and Health Care Act of 2006, 73 FR 39585 (July 10, 2008), 15 CFR 336. In order to be eligible for an allocation, an applicant must submit an application on the form provided at http://web.ita.doc.gov/tacgi/cotton.nsf/TRQApp to the address listed above by 5 p.m. on October 27, 2008 in compliance with the requirements of 15 CFR 336. Any business confidential information that is marked business confidential will be kept confidential and protected from disclosure to the full extent permitted by law.

Dated: September 22, 2008.
R. Matthew Priest,
Deputy Assistant Secretary for Textiles and Apparel.

[FR Doc. E8-22576 Filed 9-24-08; 8:45 am]

BILLING CODE 3510-DS-S